ENVIRONMENTAL PROTECTION AGENCY

[FRL-6531-5]

Science Advisory Board; Notification of Public Advisory Committee Meetings

Pursuant to the Federal Advisory Committee Act, Public Law 92-463, notice is hereby given that two committees of the USEPA Science Advisory Board (SAB) will meet on the dates and times noted below. All times noted are Eastern Time. All meetings are open to the public, however, seating is limited and available on a first come basis. Important Notice: Documents that are the subject of SAB reviews are normally available from the originating EPA office and are not available from the SAB Office—information concerning availability of documents from the relevant Program Office is included below.

1. Executive Committee of the SAB

The Executive Committee of the SAB will conduct a brief meeting on February 16, 2000 between the hours of 2:00 and 4:00 EST. The meeting will be held in Room 6013 in the Ariel Rios Building (adjacent to the Federal Triangle Metro exit on 12th Street), 1200 Pennsylvania Avenue, NW, Washington, DC. At this meeting the Executive Committee plans to review reports from some of its Committees/Subcommittee, most likely including the following:

(a) Executive Committee Subcommittee: “Review of the Agency's Position on the Data from the Testing of Human Subjects.”

(b) Executive Committee Subcommittee: “Review of the Agency's Application of the Cancer Risk Assessment Guidelines to Children.”

(c) Executive Committee Subcommittee: “Review of the Application of the Draft Cancer Risk Assessment Guidelines to the Case of Chloroform.”

(d) Research Strategies Advisory Committee joint report view with the Board of Scientific Counselors of ORD: “Review of the Agency's Science to Achieve Results (STAR) Program.”

Drafts of the reports that will be reviewed at the meeting should available to the public at the SAB website (http://www.epa.gov/sab) by close-of-business on February 9, 2000.

Public Comments—Any member of the public wishing further information concerning the meeting or wishing to submit brief oral comments should contact Dr. Donald G. Barnes, Designated Federal Officer (DFO) for the Executive Committee, in writing, no later than close of business Friday, February 11th at USEPA Science Advisory Board (1400A), 1200 Pennsylvania Avenue, NW, Washington, DC 20460; phone (202) 564-4533, fax (202) 501-0323; or via e-mail at <barnes.don@epa.gov>. The oral comment period will be limited to 15 minutes total, with no more than three minutes per speaker or organization.

Pre-Registration for Attendance—Any member of the public who desires to attend the meeting must pre-register with Ms. Priscilla Tillery-Gadson no later than close of business on Friday, February 11th at (202) 564-4543 or via e-mail at <tillery.priscilla@epa.gov>. The site of the meeting (1200 Pennsylvania Avenue, NW) is a secure building and prior arrangements must be made for access by non-Federal employees.

2. Residual Risk Applications Subcommittee

The Residual Risk Applications Subcommittee (Subcommittee) of the Science Advisory Board (SAB) will meet on Wednesday and Thursday, March 1-2, 2000 in the Main Auditorium of the US EPA, Office of Research and Development, Environmental Research Center, 86 T.W. Alexander Drive, Research Triangle Park, North Carolina 27711. The meeting will begin at 8:30 am and adjourn no later than 5:00 pm on each day.

Purpose of the Meeting—The purpose of meeting is to conduct a review of the methodology the Agency will use to conduct Residual Risk assessments. The Agency will present a case study risk assessment for the secondary lead smelters source category for review by the SAB.

In 1998, the SAB reviewed an Agency Report to Congress that described the approach that the Agency would use in assessing the “residual risk” in the context of the Clean Air Act. That document presented the Agency's response to the mandate found in Section 112(f)(1) of the Act and described a strategy for addressing the risks remaining from the emission of Hazardous Air Pollutants once Maximum Achievable Control Technology (MACT) standards have been implemented. Additional information and insight can be found on the SAB Website in the SAB's review of that Report to Congress: http://www.epa.gov/sab/ec9813.pdf.

Proposed Charge—The Proposed Charge to the SAB is as follows:

(a) Is the methodology that the Agency applied in this risk assessment consistent with the risk assessment approach and methodology presented in the Report to Congress (EPA-453/R-99-001)? Are the assumptions used in this risk assessment consistent with current methods and practices?

(b) Model Inputs—Are the methods used to estimate emission rates, and the method used to estimate species at the stack appropriate and clearly described?

(c) Models—Does the risk assessment use appropriate currently available dispersion models both at the screening level and at the more refined level of analysis? Are the models applied correctly? Given the state of the science, does the risk assessment use an appropriate multipathway model? The assessment uses the IEM-2M model, with some modifications. Is the IEM-2M model appropriate for use in this regulatory context? With regard to the modification and application of the model, did the EPA appropriately modify the model for use in this risk assessment, and did the Agency apply the model correctly? Is there another model or another approach, that is available at this time that EPA should consider?

(d) Choice of Receptors—The Agency identifies the home gardener as the appropriate receptor to estimate risks to the residential population and the farmer to embody high end risks. Are these receptors appropriate for this task?

(e) Ecological Risk Assessment—Given currently available methods, are the models used for the ecological assessment appropriate? Are they applied correctly? Are the ecological benchmarks appropriate?

(f) Uncertainty and variability assessment—Did the assessment use appropriate currently available methods to identify the variables and pathways to address in the uncertainty and variability assessment? Are the methods used to quantify variability and uncertainty acceptable? Are there other, more appropriate methods available for consideration?

(g) Results Presentation—Does the Agency's document clearly present and interpret the risk results? Does it provide the appropriate level of information? Do the figures and tables adequately present the data? Do the formats provide for a clear understanding of the material?

Availability of Review Materials—Copies of the draft document may be obtained from Ms. Kelly Rimer, Emissions Standards Division (ESD), Office of Air Quality Planning and Standards (OAQPS), MD-13, RTP, NC 27711, phone (919) 541-2962; or via e-mail at <rimer.kelly@epa.gov>.

A limited number of telephone lines will be available to the public for listening to the proceedings. For details on participating in the meeting in this fashion, call Kelly Rimer one week prior before the meeting.

Public Comments—Any member of the public wishing to provide brief oral comments at the meeting must contact Dr. Donald Barnes, Designated Federal Officer (DFO), in writing no later than noon Eastern Time on Monday, February 21 at: USEPA Science Advisory Board (1400A), 1200 Pennsylvania Avenue, NW, Washington DC 20460; fax (202) 501-0323; or via e-mail at: <barnes.don@epa.gov>. The request should identify the name of the individual who will make the presentation, the organization represented, and an outline of the issue(s) to be addressed.

Providing Oral or Written Comments at SAB Meetings

The Science Advisory Board expects that public statements presented at its meetings will not be repetitive of previously submitted oral or written statements. In general, each individual or group making an oral presentation will be limited to a total time of ten minutes (unless otherwise noted). Written comments (at least 35 copies) received in the SAB Staff Office sufficiently prior to a meeting date (usually one week before the meeting), may be mailed to the relevant SAB committee or subcommittee; comments received too close to the meeting date will normally provided to the committee at its meeting, or mailed soon after receipt by the Agency. Written comments may be provided to the relevant committee or subcommittee up until the time of the meeting.

Additional information concerning the Science Advisory Board, its structure, function, and composition, may be found on the SAB Website (http://www.epa.gov/sab) and in the Annual Report of the Staff Director which is available from the SAB Publications Staff at (202) 564-4533 or via fax at (202) 501-0256.

Meeting Access

Individuals requiring special accommodation at either meeting, including wheelchair access, should contact Dr. Barnes at least five business days prior to the respective meeting so that appropriate arrangements can be made.

Dated: January 27, 2000.
Donald G. Barnes,
Staff Director, Science Advisory Board.

[FR Doc. 00-2179 Filed 2-1-00; 8:45 am]

BILLING CODE 6560-50-U